DEPARTMENT OF DEFENSE

Office of the Secretary

[Docket ID DOD-2009-OS-0100]

Privacy Act of 1974; System of Records

AGENCY: Defense Logistics Agency, DoD.

ACTION: Notice to Add a System of Records.

SUMMARY: The Defense Logistics Agency is proposing to add a system of records to its inventory of record systems subject to the Privacy Act of 1974 (5 U.S.C. 552a), as amended.

DATES: The changes will be effective on August 19, 2009 unless comments are received that would result in a contrary determination.

ADDRESSES: Send comments to the Privacy Act Officer, Headquarters, Defense Logistics Agency, ATTN: DGA, 8725 John J. Kingman Road, Stop 16443, Fort Belvoir, VA 22060-6221.

FOR FURTHER INFORMATION CONTACT: Mr. Lewis Oleinick at (703) 767-6194.

SUPPLEMENTARY INFORMATION: The Defense Logistics Agency notices for systems of records subject to the Privacy Act of 1974 (5 U.S.C. 552a), as amended, have been published in the Federal Register and are available from the address above.

The proposed systems reports, as required by 5 U.S.C. 552a(r) of the Privacy Act of 1974, as amended, were submitted on July 10, 2009, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: July 14, 2009.
Morgan E. Frazier,
Alternate OSD Federal Register Liaison Officer, Department of Defense.

S170.80

System name:

DLA OGC Student Loan Repayment Program Records.

System location:

Records will be maintained in Defense Logistics Agency Offices of Counsel. Addresses may be obtained from the System Manager below.

Categories of individuals covered by the system:

Current DLA Office of General Counsel (OGC) employees participating in the DLA OGC Student Loan Repayment Program.

Categories of records in the system:

Individual's name and Social Security Number (SSN); qualifying student loan name, amount, date, number, lender's name, address and tax identification number, servicing office's name, address and tax identification number and verification; recommendation for participation; and employee service agreement.

Authority for maintenance of the system:

5 U.S.C. 301, Departmental Regulations; 5 U.S.C. 5379, Student Loan Repayments; and E.O. 9397 (SSN).

Purpose:

Information will be used as a retention incentive for DLA OGC attorneys.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

Information is provided to the Office of Personnel Management to meet statutory reporting requirements. Data provided does not include personal identifiers.

The DoD “Blanket Routine Uses” also apply to this system of records.

Policies and practices for storing, retrieving, accessing, retaining, and disposing of records in the system:

Storage:

Records may be stored on paper and on electronic storage media.

Retrievability:

Records are retrieved by the individual's name.

Safeguards:

Access to records is restricted to those users who have an official need-to-know in the performance of their duties for the Program. All users are required to have taken Information Assurance and Privacy training. Records are secured in locked or guarded buildings, locked offices, or locked cabinets during non-duty hours.

Retention and disposal:

Disposition pending (treat records as permanent until the National Archives and Records Administration approves the DLA retention and disposition schedule).

System manager(s) and address:

DSCC Chief Counsel, Defense Supply Center, Columbus, P.O. Box 3990, Columbus, OH 43218-3990.

Notification procedure:

Individuals seeking to determine whether information about themselves is contained in this system should address written inquiries to the Privacy Act Office, Headquarters, Defense Logistics Agency, ATTN: DGA, 8725 John J. Kingman Road, Suite 1644, Fort Belvoir, VA 22060-6221.

Inquiry should contain the individual's full name, current address, and telephone number.

Record access procedures:

Individuals seeking access to information about themselves contained in this system should address written inquiries to the Privacy Act Office, Headquarters, Defense Logistics Agency, ATTN: DGA, 8725 John J. Kingman Road, Suite 1644, Fort Belvoir, VA 22060-6221.

Inquiry should contain the individual's full name, current address, and telephone number.

Contesting record procedures:

The DLA rules for accessing records, for contesting contents, and appealing initial agency determinations are contained in 32 CFR part 323, or may be obtained from the Privacy Act Office, Headquarters, Defense Logistics Agency, ATTN: DGA, 8725 John J. Kingman Road, Suite 1644, Fort Belvoir, VA 22060-6221.

Record source categories:

Subject individual and lender institution.

Exemptions claimed for the system:

None.

[FR Doc. E9-17154 Filed 7-17-09; 8:45 am]

BILLING CODE 5001-06-P